DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Quarterly Services Survey.

Form Number(s): QSS-1(A), QSS-1(E), QSS-2(A), QSS-2(E), QSS-3(A), QSS-3(E), QSS-4(A), QSS-4(E), QSS-5(A), QSS-5(E), QSS-1A-PEO, QSS-1E-PEO.

OMB Control Number: 0607-0907.

Type of Request: Revision of a currently approved collection.

Burden Hours: 13,500.

Number of Respondents: 15,400.

Average Hours per Response: 13 minutes.

Needs and Uses: The U.S. Census Bureau requests an extension with revision of the current OMB approval of the Quarterly Services Survey (QSS). The QSS currently canvasses and collects data from employer businesses in select service industries. These industries include truck transportation; couriers and messengers; warehousing and storage; information; credit intermediation and related activities; securities, commodity contracts, and other financial investments and related activities; rental and leasing; professional, scientific and technical services; administrative and support and waste management and remediation services; healthcare and social assistance; arts, entertainment, and recreation; and other services (except public administration). The QSS provides the most current reliable measures of total operating revenue and percentage of revenue by class of customer (for selected industries) on a quarterly basis. In addition, the QSS provides the only current quarterly measure of total operating expenses from tax-exempt firms in industries that have a large not-for-profit component.

The QSS is a major source for the development of quarterly Gross Domestic Product (GDP) and an indicator of short-term economic change. The total operating revenue estimates produced from the QSS provide current trends of economic service industry activity in the United States from service providers with paid employees. In addition to revenue, we also collect total operating expenses from tax-exempt firms in industries that have a large not-for-profit component. Operating expenses provide a better measure of the economic activity of these firms. Expense estimates produced by the QSS, in addition to inpatient days and discharges for the hospital industry, are used by the Centers for Medicare and Medicaid Services (CMS) to project and study hospital regulation, Medicare payment adequacy, and other related projects.

Beginning in June 2010, the U.S. Census Bureau will expand the QSS to include coverage of utilities; air transportation; water transportation; transit and ground passenger transportation; pipeline transportation; scenic and sightseeing transportation; support activities for transportation; monetary authorities-central bank; insurance carriers and related services; real estate; lessors of nonfinancial intangible assets (except copyrighted works); and educational services.

In the year 2010, for select questionnaires, we may replace select questions with industry specific variable content. This questionnaire adjustment was proposed by the Bureau of Economic Analysis (BEA). According to the BEA, an implementation of such proposed changes would assist them in making better use of the QSS data and lead to improved estimates of Personal Consumption Expenditures (PCE) services.

The BEA is the primary Federal user of data collected in the QSS. The BEA utilizes these timely data to make improvements to the national accounts for service industries. In the National Income and Product Accounts (NIPA), the quarterly data allow more accurate estimates of both PCE and private fixed investment. For example, recently published revisions to the quarterly NIPA estimates resulted from the incorporation of new source data from the QSS. Revenue data from the QSS are also used to produce estimates of gross output by industry that allow BEA to produce a much earlier version of the gross domestic product by industry estimates.

Estimates produced from the QSS are used by the BEA as a component of quarterly GDP estimates. The estimates also provide the Federal Reserve Board (FRB) and Council of Economic Advisors (CEA) with timely information on current economic performance. All estimates collected from this survey are used extensively by various government agencies and departments on economic policy decisions; private businesses; trade organizations; professional associations; academia; and other various business research and analysis organizations.

Affected Public: Business or other for-profit; not-for-profit institutions.

Frequency: Quarterly.

Respondent's Obligation: Voluntary.

Legal Authority: Title 13 U.S.C., Section 182.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer, either by fax (202-395-7245) or e-mail (bharrisk@omb.eop.gov).

Dated: June 2, 2009.
Glenna Mickelson,
Management Analyst, Office of the Chief Information Officer.

[FR Doc. E9-13197 Filed 6-5-09; 8:45 am]

BILLING CODE 3510-07-P